DEPARTMENT OF TRANSPORTATION

Federal Aviation Administration

Notice of Opportunity for Public Comment on a Property Swap at Augusta State Airport in Augusta, ME

AGENCY: Federal Aviation Administration (FAA), DOT.

ACTION: Request for Public Comments.

SUMMARY: Under the provisions of Title 49, U.S.C. Section 47153(d), notice is being given that the FAA is considering a property swap at Augusta State Airport in Augusta, ME.

The purpose of the land swap between the State of Maine (Airport Sponsor) and Dragon Products Company, Inc., to resolve a compliance issue. The 13 acre parcel is at the bottom of the slope on the departure end of RW 35, and lies approximately 300' below the elevation of the end of the Runway. This portion of land is not considered useable for aeronautical purposes based upon its location and elevation. The parcel currently contains a pile of hardened concrete spoils placed there by Dragon Products Company, Inc. The solutions to mitigate this situation include removal of the spoils pile, which would be cost prohibitive, or release the land to Dragon Products Company, Inc. as part of an equal value parcel exchange. The State of Maine determined the parcel exchange as the best alternative. The parcel that Dragon has offered for exchange abuts the Augusta State Airport property on one side and City of Augusta property on another. The Offered Parcel would be advantageous to the State of Maine for potential non-aeronautical airport revenue generating purposes. The State of Maine would retain all avigation rights over both parcels.

DATES: Comments must be received on or before May 23, 2016.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, Telephone 781-238-7618.

Issued in Burlington, Massachusetts, on April 14, 2016.
Bryon H. Rakoff,
Deputy Manager, Airports Division.

[FR Doc. 2016-09428 Filed 4-21-16; 8:45 am]

BILLING CODE P